DEPARTMENT OF DEFENSE

Department of the Navy

Meeting of the Secretary of the Navy Advisory Panel

AGENCY: Department of the Navy, DoD.

ACTION: Notice of Closed Meeting.

SUMMARY: The SECNAV Advisory Panel will meet from 8:30 a.m. to 4:00 p.m. on April 18, 2013 for a series of classified discussions on the Asia-Pacific region to include the international strategic environment and ongoing Department of the Navy efforts. These sessions will include discussions of classified material. For this reason, the meeting will be closed to the public.

DATES: The meeting will be held on April 18, 2013, from 8:30 a.m. to 4:00 p.m.

ADDRESSES: The meeting will be held in the Pentagon 4B248A Conference Room at the Pentagon.

FOR FURTHER INFORMATION CONTACT: CAPT Peter J. Brennan, SECNAV Advisory Panel, Office of the Deputy Under Secretary of the Navy (Plans, Policy, Oversight & Integration), 1000 Navy Pentagon, Washington, DC 20350-1000, 703-695-3032.

SUPPLEMENTARY INFORMATION: Pursuant to the provisions of the Federal Advisory Committee Act (5 U.S.C. App. 2), these matters constitute classified information that is specifically authorized by Executive Order to be kept secret in the interest of national defense and are, in fact, properly classified pursuant to such Executive Order. The discussion of such information cannot be adequately segregated from other topics, which precludes opening these meetings to the public. Accordingly, the Secretary of the Navy has determined in writing that the public interest requires that all sessions of this meeting be closed to the public because they will be concerned with matters listed in section 552b(c)(1) of title 5, United States Code.

Dated: March 20, 2013.
C. K. Chiappetta,
Lieutenant Commander, Office of the Judge Advocate General, U.S. Navy, Federal Register Liaison Officer.

[FR Doc. 2013-07219 Filed 3-27-13; 8:45 am]

BILLING CODE 3810-FF-P